DEPARTMENT OF TRANSPORTATION

Federal Highway Administration

Environmental Impact Statement: Faulkner County, Arkansas

AGENCY: Federal Highway Administration (FHWA), DOT.

ACTION: Notice of intent.

SUMMARY: The FHWA is issuing this notice to advise the public that an environmental impact statement (EIS) will be prepared for a proposed highway project in Faulkner County, Arkansas.

FOR FURTHER INFORMATION CONTACT: Amy Heflin, Community Planner, Federal Highway Administration, 700 West Capitol, Rm 3130 Federal Office Building, Little Rock, Arkansas 72201-3298, Telephone: (501) 324-5625; or Ronnie Hall, City Engineer, City of Conway, 100 East Robins, Conway, Arkansas 72032, Telephone: (501) 450-6165; or Mike Lynch, Project Manager, Garver Engineers, P.O. Box 50, Little Rock, Arkansas 72203, Telephone (501) 376-3633.

SUPPLEMENTARY INFORMATION: The FHWA, in cooperation with the City of Conway, Arkansas, and the Arkansas Highway and Transportation Department will prepare an environmental impact statement (EIS) on a proposal to construct a western loop in Faulkner County, Arkansas. The proposed project would involve the construction of an arterial on a new alignment starting west of the City of Conway at Interstate Highway 40 and terminating South of the City of Conway on Interstate Highway 40. Construction of a western loop is considered necessary to provide for the existing and projected traffic demand. A proposed alignment and typical section for this proposed project will be formulated during development of the EIS. Alternatives under consideration include taking no action and location alternatives to be identified during the EIS process.

Letters describing the proposed action and soliciting comments will be sent to appropriate Federal, State, and local agencies, and to private organizations and citizens who have previously expressed or are known to have interest in this project. An agency scoping meeting is planned early in the project development process. A series of public meetings will be held in the City of Conway. In addition, a public hearing will be held. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)

Issued on: May 3, 2000.
Gary A. DalPorto,
Planning and Research Engineer, FHWA, Little Rock, Arkansas.

[FR Doc. 00-11861 Filed 5-10-00; 8:45 am]

BILLING CODE 4910-22-M